FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 30, 2012.

A. Federal Reserve Bank of Cleveland (Nadine Wallman, Vice President) 1455 East Sixth Street, Cleveland, Ohio 44101-2566:

1. The Sutton Bank Employee Stock Ownership/401K Plan (Sutton Bancshares, Inc.), Attica, Ohio; Eric A. Gillett, James A. Gorrell; as Co-Trustees; The Eric A. Gillete Family Control Group which consists of Eric A. Gillett Revocable Trust, and Denise E. Gillett Revocable Trust, both of Attica, Ohio; Ronald L. and Jean E. Hamilton, both of Huron, Ohio; John A. Pour Revocable Living Trust, Yvenna E. Pour Revocable Living Trust, Cheryl S. Beaver, all of Troy, Ohio; Valeria A. Darling, and Fred W. Darling, both of Attica, Ohio; Theresa M. Henderson, Piqua, Ohio; Michelle R. Powell, Troy, Ohio; and The James A. Gorrell Family Control Group which consist of James A. Gorrell, Tiffin, Ohio; and Barbara M. Gorrell, Dayton, Ohio; collectively to acquire voting shares of Sutton Bancshares, Inc., and thereby indirectly acquire voting shares of Sutton Bank, both in Attica, Ohio.

B. Federal Reserve Bank of Atlanta (Chapelle Davis, Assistant Vice President) 1000 Peachtree Street NE., Atlanta, Georgia 30309:

1. Robert Wayne Lowe, Warner Robbins, Georgia; to acquire additional voting shares of Mid State Banks, Inc., Hawkinsville, Georgia, and thereby indirectly acquire additional voting shares of PlantersFIRST Bank, Cordele, Georgia.

2. James Brawner Little, III, Birmingham, Alabama; to acquire voting shares of The Southern Banc Company, Inc., and thereby indirectly acquire voting shares of The Southern Bank Company, both in Gadsden, Alabama.

Board of Governors of the Federal Reserve System, August 10, 2012.
Margaret McCloskey Shanks,
Associate Secretary of the Board.

[FR Doc. 2012-20029 Filed 8-14-12; 8:45 am]

BILLING CODE 6210-01-P